DEPARTMENT OF THE TREASURY

Financial Management Service; Privacy Act of 1974, as Amended; System of Records

AGENCY: Financial Management Service, Treasury.

ACTION: Notice of altered Privacy Act System of Records.

SUMMARY: The Department of the Treasury, Financial Management Service (FMS), gives notice of a proposed alteration to the system of records entitled “Treasury/FMS .016—Payment Records for Other Than Regular Recurring Benefit Payments,” which is subject to the Privacy Act of 1974, as amended (5 U.S.C. 552a). The systems of records notice was last published in the Federal Register in its entirety on August 22, 2001, in 66 FR 44204. Two amendments to Treasury/FMS .016 have been published on February 26, 2003, at 68 FR 8964, and April 1, 2003, at 68 FR 15796, respectively.

DATES: Comments must be received no later than June 7, 2004. The proposed systems of records will be effective June 15, 2004 unless FMS receives comments which would result in a contrary determination.

ADDRESSES: Comments must be submitted to ASAP Program Manager, Federal Finance, Financial Management Service, 401 14th Street, SW., Washington, DC 20227, or by electronic mail to christopher.tighe@fms.treas.gov. Comments received will be available for inspection at the same address between the hours of 9 a.m. and 4 p.m. Monday through Friday.

FOR FURTHER INFORMATION CONTACT: Christopher Tighe, Federal Finance, (202) 874-6644.

SUPPLEMENTARY INFORMATION: The Financial Management Service (FMS) is the money manager for the Federal Government. As such, FMS disburses over 900 million payments totaling more than $1.64 trillion in social security and veterans' benefits, income tax refunds, and other federal payments. In the operation of its payment programs, FMS maintains records on individuals who receive payments from the Federal Government. Some records on individuals who receive Federal payments are maintained in FMS's “Payment Records for Other Than Regular Recurring Benefit Payments—Treasury/FMS .016.”

As part of its continuing efforts to efficiently operate and manage its payment disbursement processes, FMS establishes new payment delivery mechanisms. This alteration of system of records Treasury/FMS .016 is being made to add information specific to payment records related to the Automated Standard Application for Payments (ASAP.gov) payment mechanism. This alteration updates system location, storage, retention and disposal, system managers, and record source categories.

ASAP.gov is an FMS Internet payment mechanism that assists Federal agencies in disbursing monies to states, municipalities, nonprofit entities, universities and individuals. Payments can include unemployment insurance and Medicare payments to states; federally funded research grants and student loan payments to universities; and individual research grant payments to nonprofit entities and individuals. By using ASAP.gov, Federal entities authorize funding for electronic payments to end-recipients. An electronic payment is initiated when a payment requestor, acting on behalf of the end-recipient, requests a specific payment amount. When the payment request is initiated, ASAP debits the Federal entity's Treasury account and sends a credit through either the Automated Clearing House (ACH), a future date settlement funds transfer system, or the Federal Reserve Bank funds transfer system (Fedwire), a same date settlement funds transfer system, to the payment requestor's bank account, resulting in a payment. ASAP.gov will allow states, municipalities, nonprofit entities, universities and individuals to enjoy the benefits of electronic payment authorization and transactions while minimizing the risks of fraudulent transactions and the loss of public funds.

For the reasons set forth above, FMS proposes to alter system of records Treasury/FMS .016-Payment Records for Other Than Regular Recurring Benefit Payments, as follows:

Treasury/FMS .016

System name:

Payment Records for Other Than Regular Recurring Benefit Payments—Treasury/Financial Management Service.

System location:

Description of the change: After the existing sentence, insert the following:

“Records also are located throughout the United States at Federal Reserve Banks which act as Treasury's fiscal agents. The address(es) of the fiscal agents may be obtained from the system managers.”

* * * * *

Storage:

Description of the change: Remove the current entry and insert the following:

“Records are maintained in electronic or magnetic media and hard copy.”

* * * * *

Retention and disposal:

Description of the change: Remove the current entry and insert the following:

“Some records are retained for three years; other records for payments are retained indefinitely. Records are retained in accordance with statute, court order or Treasury Directive 25-02, Records Disposition Management Program. Audit logs of transactions are retained for a period of six (6) months or as otherwise required by statute or court order. Records in electronic media are electronically erased using industry-accepted techniques.”

* * * * *

System manager(s) address:

Description of the change: Remove the current entry and insert the following:

“Chief Disbursing Officer, Financial Management Service; Chief Architect, Federal Finance, Financial Management Service; or, Director, ASAP Program Office, Federal Finance, Financial Management Service, 401 14th Street, SW., Washington, DC 20227.”

* * * * *

Record source categories:

Description of the change: Remove the current entry and insert the following:

“Federal departments and agencies responsible for certifying, disbursing and collecting Federal payments; Treasury fiscal and financial agents that process payments and collections; and commercial database vendors. Each of these record sources may include information obtained from individuals.”

* * * * *

Dated: April 27, 2004.
Jesus H. Delgado-Jenkins,
Acting Assistant Secretary for Management.

[FR Doc. 04-10204 Filed 5-5-04; 8:45 am]

BILLING CODE 4810-35-P